ENVIRONMENTAL PROTECTION AGENCY

40 CFR Ch. I

[FRL-9974-84-OP]

Spring 2018 Unified Agenda of Regulatory and Deregulatory Actions

AGENCY: Environmental Protection Agency.

ACTION: Semiannual regulatory agenda.

SUMMARY: The Environmental Protection Agency (EPA) publishes the Semiannual Agenda of Regulatory and Deregulatory Actions online at http://www.reginfo.gov and at www.regulations.gov to update the public. This document contains information about:

• Regulations in the Semiannual Agenda that are under development, completed, or canceled since the last agenda; and

• Reviews of regulations with small business impacts under Section 610 of the Regulatory Flexibility Act.

FOR FURTHER INFORMATION CONTACT: If you have questions or comments about a particular action, please get in touch with the agency contact listed in each agenda entry. If you have general questions about the Semiannual Agenda, please contact: Caryn Muellerleile (muellerleile.caryn@epa.gov 202-564-2855).

Table of Contents

I. Introduction

A. EPA's Regulatory Information

B. What key statutes and Executive Orders guide EPA's rule and policymaking process?

C. How can you be involved in EPA's rule and policymaking process?

II. Semiannual Agenda of Regulatory and Deregulatory Actions

A. What actions are included in the e-Agenda and the Regulatory Flexibility Agenda?

B. How is the e-Agenda organized?

C. What information is in the Regulatory Flexibility Agenda and the e-Agenda?

D. What tools are available for mining regulatory agenda data and for finding more about EPA rules and policies?

III. Review of Regulations Under 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

EPA is committed to a regulatory strategy that effectively achieves the Agency's mission of protecting the environment and the health, welfare, and safety of Americans while also supporting economic growth, job creation, competitiveness, and innovation. EPA publishes the Semiannual Agenda of Regulatory and Deregulatory Actions to update the public about regulatory activity undertaken in support of this mission. In the Semiannual Agenda, EPA provides notice of our plans to review, propose, and issue regulations.

Additionally, EPA's Semiannual Agenda includes information about rules that may have a significant economic impact on a substantial number of small entities, and review of those regulations under the Regulatory Flexibility Act, as amended.

In this document, EPA explains in greater detail the types of actions and information available in the Semiannual Agenda and actions that are currently undergoing review specifically for impacts on small entities.

A. EPA's Regulatory Information

“E-Agenda,” “online regulatory agenda,” and “semiannual regulatory agenda” all refer to the same comprehensive collection of information that, until 2007, was published in the Federal Register. Currently, this information is only available through an online database, at both www.reginfo.gov/ and www.regulations.gov.

“Regulatory Flexibility Agenda” refers to a document that contains information about regulations that may have a significant impact on a substantial number of small entities. We continue to publish this document in the Federal Register pursuant to the Regulatory Flexibility Act of 1980. This document is available at https://www.gpo.gov/fdsys/search/home.action.

“Unified Regulatory Agenda” refers to the collection of all agencies' agendas with an introduction prepared by the Regulatory Information Service Center facilitated by the General Service Administration.

“Regulatory Agenda Preamble” refers to the document you are reading now. It appears as part of the Regulatory Flexibility Agenda and introduces both EPA's Regulatory Flexibility Agenda and the e-Agenda.

“610 Review” as required by the Regulatory Flexibility Act means a periodic review within ten years of promulgating a final rule that has or may have a significant economic impact on a substantial number of small entities. EPA maintains a list of these actions at https://www.epa.gov/reg-flex/section-610-reviews.

B. What key statutes and Executive Orders guide EPA's rule and policymaking process?

A number of environmental laws authorize EPA's actions, including but not limited to:

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

Not only must EPA comply with environmental laws, but also administrative legal requirements that apply to the issuance of regulations, such as: The Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 13771, “Reducing Regulation and Controlling Regulatory Costs” (82 FR 9339, Feb. 3, 2017); 12866, “Regulatory Planning and Review” (58 FR 51735, Oct. 4, 1993), as supplemented by Executive Order 13563, “Improving Regulation and Regulatory Review” (76 FR 3821, Jan. 21, 2011); 12898, “Environmental Justice” (59 FR 7629, Feb. 16, 1994); 13045, “Children's Health Protection” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

C. How can you be involved in EPA's rule and policymaking process?

You can make your voice heard by getting in touch with the contact person provided in each agenda entry. EPA encourages you to participate as early in the process as possible. You may also participate by commenting on proposed rules published in the Federal Register (FR).

Instructions on how to submit your comments through https://www.regulations.gov are provided in each Notice of Proposed Rulemaking (NPRM). To be most effective, comments should contain information and data that support your position and you also should explain why EPA should incorporate your suggestion in the rule or other type of action. You can be particularly helpful and persuasive if you provide examples to illustrate your concerns and offer specific alternative(s) to that proposed by EPA.

EPA believes its actions will be more cost effective and protective if the development process includes stakeholders working with us to help identify the most practical and effective solutions to environmental problems. EPA encourages you to become involved in its rule and policymaking process. For more information about EPA's efforts to increase transparency, participation and collaboration in EPA activities, please visit https://www.epa.gov/open.

II. Semiannual Agenda of Regulatory and Deregulatory Actions

A. What actions are included in the e-Agenda and the Regulatory Flexibility Agenda?

EPA includes regulations in the e-Agenda. However, there is no legal significance to the omission of an item from the agenda, and EPA generally does not include the following categories of actions:

• Administrative actions such as delegations of authority, changes of address, or phone numbers;

• Under the CAA: Revisions to state implementation plans; equivalent methods for ambient air quality monitoring; deletions from the new source performance standards source categories list; delegations of authority to states; area designations for air quality planning purposes;

• Under FIFRA: Registration-related decisions, actions affecting the status of currently registered pesticides, and data call-ins;

• Under the Federal Food, Drug, and Cosmetic Act: Actions regarding pesticide tolerances and food additive regulations;

• Under RCRA: Authorization of State solid waste management plans; hazardous waste delisting petitions;

• Under the CWA: State Water Quality Standards; deletions from the section 307(a) list of toxic pollutants; suspensions of toxic testing requirements under the National Pollutant Discharge Elimination System (NPDES); delegations of NPDES authority to States;

• Under SDWA: Actions on State underground injection control programs.

Meanwhile, the Regulatory Flexibility Agenda includes:

• Actions likely to have a significant economic impact on a substantial number of small entities.

• Rules the Agency has identified for periodic review under section 610 of the RFA.

EPA has one completed 610 review in this Agenda.

B. How is the e-Agenda organized?

Online, you can choose how to sort the agenda entries by specifying the characteristics of the entries of interest in the desired individual data fields for both the www.reginfo.gov and www.regulations.gov versions of the e-Agenda. You can sort based on the following characteristics: EPA subagency (such as Office of Water); stage of rulemaking as described in the following paragraphs; alphabetically by title; or the Regulation Identifier Number (RIN), which is assigned sequentially when an action is added to the agenda.

Each entry in the Agenda is associated with one of five rulemaking stages. The rulemaking stages are:

1. Prerule Stage—EPA's prerule actions generally are intended to determine whether the agency should initiate rulemaking. Prerulemakings may include anything that influences or leads to rulemaking; this would include Advance Notices of Proposed Rulemaking (ANPRMs), studies or analyses of the possible need for regulatory action.

2. Proposed Rule Stage—Proposed rulemaking actions include EPA's Notice of Proposed Rulemakings (NPRMs); these proposals are scheduled to publish in the Federal Register within the next year.

3. Final Rule Stage—Final rulemaking actions are those actions that EPA is scheduled to finalize and publish in the Federal Register within the next year.

4. Long-Term Actions—This section includes rulemakings for which the next scheduled regulatory action (such as publication of a NPRM or final rule) is twelve or more months into the future. We urge you to explore becoming involved even if an action is listed in the Long-Term category.

5. Completed Actions—EPA's completed actions are those that have been promulgated and published in the Federal Register since publication of the fall 2017 Agenda. The term completed actions also includes actions that EPA is no longer considering and has elected to “withdraw” and also the results of any RFA section 610 reviews.

C. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: A brief description of the subject of the regulation. The notation “Section 610 Review” follows the title if we are reviewing the rule as part of our periodic review of existing rules under section 610 of the RFA (5 U.S.C. 610).

Priority: Each entry is placed into one of the five following categories:

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations (e.g., certain State Implementation Plans, National Priority List updates, Significant New Use Rules, State Hazardous Waste Management Program actions, and Pesticide Tolerances and Tolerance Exemptions). If an action that would normally be classified Routine and Frequent is reviewed by the Office of Management and Budget (OMB) under Executive Order 12866, then we would classify the action as either “Economically Significant” or “Other Significant.”

e. Informational/Administrative/Other: An action that is primarily informational or pertains to an action outside the scope of Executive Order 12866.

Executive Order 13771 Designation: Each entry is placed into one of the following categories:

a. Deregulatory: When finalized, an action is expected to have total costs less than zero;

b. Regulatory: The action is either

(i) a significant regulatory action as defined in Section 3(f) of Executive Order 12866, or

(ii) a significant guidance document (e.g., significant interpretive guidance) reviewed by OMB's Office of Information and Regulatory Affairs (OIRA) under the procedures of Executive Order 12866 that, when finalized, is expected to impose total costs greater than zero;

c. Fully or Partially Exempt: The action has been granted, or is expected to be granted, a full or partial waiver under one or more of the following circumstances:

(i) It is expressly exempt by Executive Order 13771 (issued with respect to a “military, national security, or foreign affairs function of the United States”; or related to “agency organization, management, or personnel”), or

(ii) it addresses an emergency such as critical health, safety, financial, or non-exempt national security matters (offset requirements may be exempted or delayed), or

(iii) it is required to meet a statutory or judicial deadline (offset requirements may be exempted or delayed), or

(iv) expected to generate de minimis costs;

d. Not subject to, not significant: Is a NPRM or final rule AND is neither an Executive Order 13771 regulatory action nor an Executive Order 13771 deregulatory action;

e. Other: At the time of designation, either the available information is too preliminary to determine Executive Order 13771 status or other reasonable circumstances preclude a preliminary Executive Order 13771 designation.

f. Independent agency: Is an action an independent agency anticipates issuing and thus is not subject to E.O. 13771.

Major: A rule is “major” under 5 U.S.C. 801 (Pub. L. 104-121) if it has resulted or is likely to result in an annual effect on the economy of $100 million or more or meets other criteria specified in that Act.

Unfunded Mandates: Whether the rule is covered by section 202 of the Unfunded Mandates Reform Act of 1995 (Pub. L. 104-4). The Act requires that, before issuing an NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates and citations (if available) for all past steps and a projected date for at least the next step for the regulatory action. A date displayed in the form 05/00/19 means the agency is predicting the month and year the action will take place but not the day it will occur. For some entries, the timetable indicates that the date of the next action is “to be determined.”

Regulatory Flexibility Analysis Required: Indicates whether EPA has prepared or anticipates preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments or small nonprofit organizations.

Government Levels Affected: Indicates whether the rule may have any effect on levels of government and, if so, whether the affected governments are State, local, tribal, or Federal.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the internet addresses are included for reading copies of rulemaking documents, submitting comments on proposals, and getting more information about the rulemaking and the program of which it is a part. (Note: To submit comments on proposals, you can go to the associated electronic docket, which is housed at www.regulations.gov. Once there, follow the online instructions to access the docket in question and submit comments. A docket identification [ID] number will assist in the search for materials.)

RIN: The Regulation Identifier Number is used by OMB to identify and track rulemakings. The first four digits of the RIN identify the EPA office with lead responsibility for developing the action.

D. What tools are available for mining Regulatory Agenda data and for finding more about EPA rules and policies?

1. Federal Regulatory Dashboard

The https://www.reginfo.gov/ searchable database, maintained by the Regulatory Information Service Center and OIRA, allows users to view the Regulatory Agenda database (https://www.reginfo.gov/public/do/eAgendaMain), which includes search, display, and data transmission options.

2. Subject Matter EPA Websites

Some actions listed in the Agenda include a URL for an EPA-maintained website that provides additional information about the action.

3. Deregulatory Actions and Regulatory Reform

EPA maintains a list of its deregulatory actions under development, as well as those that are completed, at https://www.epa.gov/laws-regulations/epa-deregulatory-actions. Additional information about EPA's regulatory reform activity is available to the public at https://www.epa.gov/laws-regulations/regulatory-reform.

4. Public Dockets

When EPA publishes either an Advance Notice of Proposed Rulemaking (ANPRM) or a Notice of Proposed Rulemaking (NPRM) in the Federal Register, the Agency typically establishes a docket to accumulate materials developed throughout the development process for that rulemaking. The docket serves as the repository for the collection of documents or information related to that particular Agency action or activity. EPA most commonly uses dockets for rulemaking actions, but dockets may also be used for RFA section 610 reviews of rules with significant economic impacts on a substantial number of small entities and for various non-rulemaking activities, such as Federal Register documents seeking public comments on draft guidance, policy statements, information collection requests under the PRA, and other non-rule activities. Docket information should be in that action's agenda entry. All of EPA's public dockets can be located at www.regulations.gov.

III. Review of Regulations Under 610 of the Regulatory Flexibility Act

A. Reviews of Rules With Significant Impacts on a Substantial Number of Small Entities

Section 610 of the RFA requires that an agency review, within 10 years of promulgation, each rule that has or will have a significant economic impact on a substantial number of small entities. At this time, EPA has one completed 610 review.

Review title | RIN | Docket ID No. | Status
Section 610 Review of Lead-Based Paint Activities; Training and Certification for Renovation and Remodeling Section 402(c)(3) | 2070-AK17 | EPA-HQ-OPPT-2016-0126 | Completed.

EPA established an official public docket for this 610 review. A summary of this 610 review can be accessed at https://www.regulations.gov/ with docket identification number EPA-HQ-OPPT-2016-0126.

B. What other special attention does EPA give to the impacts of rules on small businesses, small governments, and small nonprofit organizations?

For each of EPA's rulemakings, consideration is given to whether there will be any adverse impact on any small entity. EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing the RFA/SBREFA, please visit EPA's RFA/SBREFA website at www.epa.gov/reg-flex.

IV. Thank You for Collaborating With Us

Finally, we would like to thank those of you who choose to join with us in making progress on the complex issues involved in protecting human health and the environment. Collaborative efforts such as EPA's open rulemaking process are a valuable tool for addressing the problems we face, and the regulatory agenda is an important part of that process.

Dated: February 22, 2018.
Samantha K. Dravis,
Associate Administrator, Office of Policy.

35—Long-Term Actions
Sequence No. | Title | Regulation Identifier No.
179 | N-Methylpyrrolidone (NMP) and Methylene Chloride; Rulemaking Under TSCA Section 6(a) | 2070-AK07
180 | Trichloroethylene (TCE); Rulemaking Under TSCA Section 6(a); Vapor Degreasing | 2070-AK11

35—Completed Actions
Sequence No. | Title | Regulation Identifier No.
181 | Section 610 Review of Lead-Based Paint Activities; Training and Certification for Renovation and Remodeling Section 402(c)(3) (Section 610 Review) (Completion of a Section 610 Review) | 2070-AK17

ENVIRONMENTAL PROTECTION AGENCY (EPA)

35

Long-Term Actions

179. N-Methylpyrrolidone (NMP) and Methylene Chloride; Rulemaking Under TSCA Section 6(A)

E.O. 13771 Designation: Regulatory.

Legal Authority: 15 U.S.C. 2605, Toxic Substances Control Act

Abstract: Section 6(a) of the Toxic Substances Control Act provides authority for EPA to ban or restrict the manufacture (including import), processing, distribution in commerce, and use of chemical substances, as well as any manner or method of disposal. Section 26(l)(4) of TSCA authorizes EPA to issue rules under TSCA section 6 for chemicals listed in the 2014 update to the TSCA Work Plan for Chemical Assessments for which EPA published completed risk assessments prior to June 22, 2016, consistent with the scope of the completed risk assessment. Methylene chloride and N-methylpyrrolidone (NMP) are used in paint and coating removal in commercial processes and consumer products. In the August 2014 TSCA Work Plan Chemical Risk Assessment for methylene chloride and the March 2015 TSCA Work Plan Chemical Risk Assessment for NMP, EPA characterized risks from use of these chemicals in paint and coating removal. On January 19, 2017, EPA preliminarily determined that the use of NMP and methylene chloride in paint and coating removal poses an unreasonable risk of injury to health. EPA also proposed prohibitions and restrictions on the manufacture, processing, and distribution in commerce of methylene chloride for all consumer and most types of commercial paint and coating removal and on the use of methylene chloride in commercial paint and coating removal in specified sectors. EPA co-proposed two options for NMP in paint and coating removal. The first co-proposal would prohibit the manufacture, processing, and distribution in commerce of NMP for all consumer and most commercial paint and coating removal and the use of NMP for most commercial paint and coating removal. The second co-proposal would require commercial users of NMP for paint and coating removal to establish a worker protection program and not use paint and coating removal products that contain greater than 35% NMP by weight, with certain exceptions; and require processors of products containing NMP for paint and coating removal to reformulate products such that they do not exceed 35% NMP by weight, to identify gloves that provide effective protection for the formulation, and to provide warnings and instructions on any paint and coating removal products containing NMP. Also in that proposal, EPA identified commercial furniture refinishing as an industry for which EPA would like more information before proposing regulations to address the risks presented by methylene chloride, and announced its intention to issue a separate proposal to address those risks. EPA held a public workshop on September 12, 2017, with representatives of Federal and State government agencies, industry professionals, furniture refinishing experts, non-government organizations, academic experts, and others to discuss the role of methylene chloride in furniture refinishing, work practices employed when using methylene chloride in furniture refinishing, potential alternatives, economic impacts, and other issues identified in EPA's January 2017 proposed rule.

Timetable:

Action | Date | FR Cite
NPRM | 01/19/17 | 82 FR 7464
NPRM Comment Period Extended | 05/01/17 | 82 FR 20310
Supplemental NPRM | 12/00/19
Final Rule | 10/00/21

Regulatory Flexibility Analysis Required: Yes.

Agency Contact: Ana Corado, Environmental Protection Agency, Office of Chemical Safety and Pollution Prevention, 1200 Pennsylvania Avenue NW, Mail Code 7408M, Washington, DC 20460, Phone: 202 564-0140, Email: corado.ana@epa.gov.

Joel Wolf, Environmental Protection Agency, Office of Chemical Safety and Pollution Prevention, 1200 Pennsylvania Avenue NW, Mail Code 7404T, Washington, DC 20460, Phone: 202 564-2228, Fax: 202 566-0471, Email: wolf.joel@epa.gov.

RIN: 2070-AK07

180. Trichloroethylene (TCE); Rulemaking Under TSCA Section 6(A); Vapor Degreasing

E.O. 13771 Designation: Regulatory.

Legal Authority: 15 U.S.C. 2605, Toxic Substances Control Act

Abstract: Section 6(a) of the Toxic Substances Control Act (TSCA) provides authority for EPA to ban or restrict the manufacture (including import), processing, distribution in commerce, and use of chemical substances, as well as any manner or method of disposal. Section 26(l)(4) of TSCA authorizes EPA to issue rules under TSCA section 6 for chemicals listed in the 2014 update to the TSCA Work Plan for Chemical Assessments for which EPA published completed risk assessments prior to June 22, 2016, consistent with the scope of the completed risk assessment. In the June 2014 TSCA Work Plan Chemical Risk Assessment for TCE, EPA characterized risks from the use of TCE in commercial degreasing and in some consumer uses. EPA has preliminarily determined that these risks are unreasonable risks. On January 19, 2017, EPA proposed to prohibit the manufacture, processing, distribution in commerce, or commercial use of TCE in vapor degreasing. A separate action (RIN 2070-AK03), published on December 16, 2016, proposed to address the unreasonable risks from TCE when used as a spotting agent in dry cleaning and in commercial and consumer aerosol spray degreasers.

Timetable:

Action | Date | FR Cite
NPRM | 01/19/17 | 82 FR 7432
NPRM Comment Period Extended | 02/15/17 | 82 FR 10732
NPRM Comment Period Extended End | 03/16/17
NPRM Comment Period Extended | 05/01/17 | 82 FR 20310
NPRM Comment Period Extended End | 05/19/17
Final Rule | To Be Determined

Regulatory Flexibility Analysis Required: Yes.

Agency Contact: Toni Krasnic, Environmental Protection Agency, Office of Chemical Safety and Pollution Prevention, 1200 Pennsylvania Avenue NW, Mail Code 7405M, Washington, DC 20460, Phone: 202 564-0984, Email: krasnic.toni@epa.gov.

Joel Wolf, Environmental Protection Agency, Office of Chemical Safety and Pollution Prevention, 1200 Pennsylvania Avenue NW, Mail Code 7404T, Washington, DC 20460, Phone: 202 564-2228, Fax: 202 566-0471, Email: wolf.joel@epa.gov.

RIN: 2070-AK11

ENVIRONMENTAL PROTECTION AGENCY (EPA)

35

Completed Actions

181. Section 610 Review of Lead-Based Paint Activities; Training and Certification for Renovation and Remodeling Section 402(C)(3) (Section 610 Review) (Completion of a Section 610 Review)

E.O. 13771 Designation: Not subject to, not significant.

Legal Authority: 5 U.S.C. 610

Abstract: The rulemaking, Lead; Renovation, Repair, and Painting Program (RRP),” was finalized by the EPA in April 2008 (73 FR 21692). The rule was amended in 2010 (75 FR 24802) and 2011 (76 FR 47918) to eliminate a provision for contractors to opt-out of prescribed work practices and to affirm the qualitative clearance of renovated or repaired spaces, respectively. The RRP rule is intended to reduce exposure to lead hazard created by renovation, repair, and painting activities that disturb lead-based paint. The current rule establishes requirements for training renovators and dust sampling technicians; certifying renovators, dust sampling technicians, and renovation firms; accrediting providers of renovation and dust sampling technician training; and for renovation work practices. This entry in the Regulatory Agenda announces that EPA has reviewed this action pursuant to section 610 of the Regulatory Flexibility Act (5 U.S.C. 610) to determine if the provisions that could affect small entities should be continued without change, or should be rescinded or amended to minimize adverse impacts on small entities. As part of this review, EPA solicited comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. Although the section 610 review only needs to address the 2008 RRP Rule, EPA has exercised its discretion to consider relevant comments to the 2010 and 2011 amendments, including comments on lead test kits, field testing alternatives and other broader RRP rule concerns as referenced in 80 FR 79335 and 80 FR 27621. Fifteen comments were received. EPA has concluded that the rule does not need to be amended at this time and has addressed the review factors in a report. The report is available in docket EPA-HQ-OPPT-2016-0126 and can be accessed at www.regulations.gov.

Timetable:

Action | Date | FR Cite
Final Rule | 04/22/08 | 73 FR 21691
Begin Review | 06/09/16 | 81 FR 37373
Comment Period Extended | 08/08/16 | 81 FR 52393
End Review | 03/05/18

Regulatory Flexibility Analysis Required: No.

Agency Contact: Michelle Price, Environmental Protection Agency, Office of Chemical Safety and Pollution Prevention, 1200 Pennsylvania Avenue NW, Mail Code 7404T, Washington, DC 20460, Phone: 202 566-0744, Email: price.michelle@epa.gov.

Meghan Tierney, Environmental Protection Agency, Office of Chemical Safety and Pollution Prevention, Mail Code 7404T, Washington, DC 20460, Phone: 202 564-2028, Email: tierney.meghan@epa.gov.

RIN: 2070-AK17.

[FR Doc. 2018-11283 Filed 6-8-18; 8:45 am]

BILLING CODE 6560-50-P